DEPARTMENT OF HEALTH AND HUMAN SERVICES

Substance Abuse and Mental Health Services Administration

Notice of Meeting

Pursuant to Public Law 92-463, notice is hereby given of the meeting on of the Substance Abuse and Mental Heal Services Administration's (SAMHSA) Center for Mental Health Services (CMHS) National Advisory Council on August 16, 2012.

The meeting will include topics such as budget, homelessness, and recovery support services initiative.

The meeting is open to the public and will be held online via Live Meeting. Participants can join the event directly at https://www.mymeetings.com/nc/join.php?i=PW8699891&p=CSAUNDERS&t=c. Interested persons may present data, information, or views, orally or in writing, on issues pending before the Council. Written submissions should be forwarded to the contact person on or before one week prior to the meeting (August 9, 2012). Oral presentations from the public will be scheduled at the conclusion of the meeting. Individuals interested in making oral presentations are encouraged to notify the contact on or before one week prior (August 9, 2012) to the meeting. Five minutes will be allotted for each presentation.

Substantive program information may be obtained after the meeting by accessing the SAMHSA Committee Web site, http://nac.samhsa.gov/, or by contacting Crystal C. Saunders.

Council Name: Substance Abuse and Mental Health Services Administration,

Center for Mental Health Services National Advisory Council.

Date/Time/Type: August 16, 2012, 8:30-5:00 (OPEN).

Place: Live meeting webcast.

Contact: Crystal C. Saunders, Acting Designated Federal Official, SAMHSA, Center for Mental Health Services National Advisory Council, 1 Choke Cherry Road, Rockville, Maryland 20857, Telephone: 240-276-1117, Fax: 240-276-1395.

Cathy J. Friedman,
Public Health Analyst, SAMHSA.

[FR Doc. 2012-19033 Filed 8-2-12; 8:45 am]

BILLING CODE 4162-20-P